DEPARTMENT OF AGRICULTURE

Food and Nutrition Service

Submission for OMB Review; Comment Request

May 19, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 24, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Generic Clearance for the Collection of Qualitative Feedback on Agency Service Delivery—FNS.

OMB Control Number: 0584-NEW.

Summary Of Collection: The Food and Nutrition Service (FNS), as part of its continuing effort to reduce paperwork and respondent burden, invites the general public to comment on the “Generic Clearance for the Collection of Qualitative Feedback on Agency Service Delivery ” for approval under the Paperwork Reduction Act (PRA) (44 U.S.C. 3501 et. seq.). This collection is being developed as part of a Federal Government-wide effort to streamline the process for seeking feedback from the public on service delivery. This notice announces our intent to submit this “fast track” collection to the Office of Management and Budget (OMB) for approval and to solicit comments on specific aspects for the proposed information collection.

Need And Use Of The Information: The proposed information collection activity provides a means to garner qualitative customer and stakeholder feedback in an efficient and timely manner. By qualitative feedback we mean, information that provides useful insights on perceptions and opinions, but are not statistical surveys that yield quantitative results that can be generalized to the population. This feedback will, (1) provide insights into customer or stakeholder perceptions, experiences and expectations, (2) provide an early warning of issues with service and, (3) focus attention on areas where communication, training or changes in operations might improve delivery of products or services. This collection will allow for ongoing, collaborative and actionable communications between the Agency and its customers and stakeholders. It will also allow feedback to contribute directly to the improvement of program management.

Description of Respondents: Individuals and Households, Businesses and Organizations, State, Local or Tribal Government.

Number of Respondents: 30,000.

Frequency of Responses: Recordkeeping; Reporting: Annually.

Total Burden Hours: 30,000.

Ruth Brown,
Departmental Information Collection Clearance Officer.

[FR Doc. 2016-12259 Filed 5-24-16; 8:45 am]

BILLING CODE 3410-30-P